DEPARTMENT OF DEFENSE

Office of the Secretary

[Docket ID DOD-2009-OS-0178]

Privacy Act of 1974; System of Records

AGENCY: Defense Threat Reduction Agency, DoD.

ACTION: Notice to amend a system of records.

SUMMARY: The Defense Threat Reduction Agency proposes to amend a system of records notices in its existing inventory of record systems subject to the Privacy Act of 1974, (5 U.S.C. 552a), as amended.

DATES: This proposed action will be effective without further notice on January 4, 2010 unless comments are received which result in a contrary determination.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: Ms. Brenda Carter at (703) 767-1771.

SUPPLEMENTARY INFORMATION: The Defense Threat Reduction Agency notices for systems of records subject to the Privacy Act of 1974 (5 U.S.C. 552a), as amended, have been published in the Federal Register and are available from the address above.

The specific changes to the record systems being amended are set forth below followed by the notice, as amended, published in its entirety. The proposed amendments are not within the purview of subsection (r) of the Privacy Act of 1974, (5 U.S.C. 552a), as amended, which requires the submission of a new or altered system report.

Dated: December 1, 2009.
Mitchell S. Bryman,
Alternate OSD Federal Register Liaison Officer, Department of Defense.

HDTRA 007

System name:

Security Services (March 8, 2006; 71 FR 11593).

Changes:

* * * * *

Add the following two categories under the data element

“System location”:

“Categories of individuals covered by the system:

All military and civilian personnel assigned to, or employed by Defense Threat Reduction Agency (DTRA); and all visitors to DTRA.”

“Categories of records in the system:

Name; Social Security Number (SSN); date and place of birth; height; weight; hair and eye color; citizenship; grade/rank, service; organization, security clearance; date of clearance; date of investigation; type of investigation; Agency that conducted investigation; basis special accesses; courier authorization; continuous access roster expiration date; badge number; vehicle ID and decal number; special intelligence access; expiration date, agency, billet number; list of badges/passes issued; safes and open storage locations/custodians; conference title/duties/location; special access/briefings; visit requests; conference rosters; clearance and special access rosters; picture identification; and correspondence concerning adjudication/passing of clearances/accesses.”

* * * * *

HDTRA 007

System name:

Security Services.

System location(s):

Primary location: Security and Counterintelligence Directorate, Defense Threat Reduction Agency, 8725 John J. Kingman Road, Fort Belvoir, VA 22060-6201.

Secondary locations: Albuquerque Operations, Defense Threat Reduction Agency, 1680 Texas Street, SE., Kirtland Air Force Base, Albuquerque, NM 87117-5669.

Security and Counterintelligence Field Detachment Travis, Defense Threat Reduction Agency, 510 Hickman Avenue, Travis Air Force Base, CA 94535.

Security and Counterintelligence Detachment, Europe, Unit 29623, Box 0034, APO, AE 09096-0034; Physical Address: Nathan Hale Depot, GEB 4107, Scheppalle 95, 64295 Darmstadt, Germany.

Categories of individuals covered by the system:

All military and civilian personnel assigned to, or employed by Defense Threat Reduction Agency (DTRA); and all visitors to DTRA.

Categories of records in the system:

Name; Social Security Number (SSN); date and place of birth; height; weight; hair and eye color; citizenship; grade/rank, service; organization, security clearance; date of clearance; date of investigation; type of investigation; Agency that conducted investigation; basis special accesses; courier authorization; continuous access roster expiration date; badge number; vehicle ID and decal number; special intelligence access; expiration date, agency, billet number; list of badges/passes issued; safes and open storage locations/custodians; conference title/duties/location; special access/briefings; visit requests; conference rosters; clearance and special access rosters; picture identification; and correspondence concerning adjudication/passing of clearances/accesses.

Authority for maintenance of the system:

5 U.S.C. 301, Departmental Regulations; E.O. 10450, Security Requirements for Government Employment; E.O. 12065, National Security Information; The Internal Security Act of 1950 (Pub. L. 831), Section 21, as amended and codified at 50 U.S.C. 797; The Atomic Energy Act of 1954, Section 145; and E.O. 9397 (SSN), as amended.

Purpose(s):

For use by officials and employees of the Defense Threat Reduction Agency in the performance of their official duties related to determining the eligibility of individuals for access to classified information, access to buildings and facilities, or to conferences over which DTRA has security responsibility. Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

To officials and employees of Government contractors and other Government agencies in the performance of their official duties related to the screening and selection of individuals for security clearances and/or special authorizations, access to facilities or attendance at conferences.

The ‘Blanket Routine Uses’ published at the beginning of DTRA's compilation of systems of records notices apply to this system.

Policies and practices for storing, retrieving, accessing, retaining, and disposing of records in the system:

Storage:

Electronic storage media and paper records.

Retrievability:

By individual's last name and Social Security Number (SSN).

Safeguards:

The computer facility and terminals are located in restricted areas accessible only to authorized personnel. Manual records and computer printouts are available only to authorized persons with an official need to know. Buildings are protected by security forces and an electronic security system.

Retention and disposal:

Computer records on individuals are moved to historical area of database files upon termination of an individual's affiliation with DTRA; personnel security files are retained for two years at which point the Classified Information Non disclosure Agreement form (SF 312) is mailed to the National Archives Repository and all other information is destroyed. Manual records or conference attendees, visitors, and visit certifications to other agencies are maintained for two years and destroyed.

System manager(s) and address:

Chief, Security and Counterintelligence Directorate, Defense Threat Reduction Agency, 8725 John J. Kingman Drive, Ft. Belvoir, VA 22060-6201.

Notification procedure:

Individuals seeking to determine whether information about themselves is contained in this system of records should address written inquiries to the Chief, Security and Counterintelligence Directorate, Defense Threat Reduction Agency, 8725 John J. Kingman Drive, Ft. Belvoir, VA 22060-6201.

Written requests for information should contain the full name, home address, Social Security Number (SSN), date and place of birth.

For personal visits, the individual must be able to provide identification showing full name, date and place of birth, and their Social Security Number (SSN).

Record access procedures:

Individuals seeking access to information about themselves contained in this system of records should address written inquiries to the Chief, Security and Counterintelligence Directorate, Defense Threat Reduction Agency, 8725 John J. Kingman Drive, Ft. Belvoir, VA 22060-6201.

Written requests for information should contain the full name, home address, Social Security Number (SSN), date and place of birth.

For personal visits, the individual must be able to provide identification showing full name, date and place of birth, and their Social Security Number (SSN).

Contesting record procedures:

The DTRA rules for accessing records and for contesting contents and appealing initial agency determinations are published in DTRA Instruction 5400.11B; 32 CFR part 318; or may be obtained from the Chief, Security and Counterintelligence Directorate, Defense Threat Reduction Agency, 8725 John J. Kingman Drive, Ft. Belvoir, VA 22060-6201.

Record source categories:

Information is extracted from military and civilian personnel records, investigative files, and voluntarily submitted by the individual. Other Government agencies, law enforcement officials and contractors may provide the same data.

Exemptions claimed for the system:

Investigatory material compiled solely for the purpose of determining suitability, eligibility, or qualifications for federal civilian employment, military service, federal contracts, or access to classified information may be exempt pursuant to 5 U.S.C. 552a(k)(5), but only to the extent that such material would reveal the identity of a confidential source.

An exemption rule for this system has been promulgated in accordance with the requirements of 5 U.S.C. 553(b)(1), (2), and (3), (c) and (e) and published in 32 CFR part 318.

[FR Doc. E9-28979 Filed 12-3-09; 8:45 am]

BILLING CODE 5001-06-P